DEPARTMENT OF ENERGY

Western Area Power Administration

Draft Environmental Impact Statement/Staff Assessment for the Solar Reserve LLC Rice Solar Energy Project, Riverside County, CA (DOE/EIS-0439) and Possible California Desert Conservation Area Plan Amendment

AGENCY: Western Area Power Administration, DOE.

ACTION: Notice of Availability of Draft Environmental Impact Statement/Staff Assessment.

SUMMARY: In accordance with the National Environmental Policy Act (NEPA) of 1969, as amended, and the Federal Land Policy and Management Act (FLPMA) of 1976, as amended, the Department of Energy (DOE), which includes the Western Area Power Administration (Western) and the Loan Guarantee Program (LGP), the California Energy Commission (CEC), and the Bureau of Land Management (BLM), have prepared a Draft Environmental Impact Statement (EIS) and Staff Assessment (SA), which may require a California Desert Conservation Area (CDCA) Plan Amendment, as a joint environmental analysis document for the proposed Rice Solar Energy Project (Project), in Riverside County, California, and by this notice are announcing the opening of the comment period. Western, on behalf of DOE, and CEC are joint lead agencies for purposes of satisfying the requirements of NEPA and the California Environmental Quality Act (CEQA), with the BLM acting as a cooperating agency. The Draft EIS/SA is available on the Internet at: http://www.energy.ca.gov/sitingcases/ricesolar/index.html.

DATES: The public is invited to submit comments on this Draft EIS/SA and possible CDCA Plan Amendment during the public comment period. To ensure that comments will be considered, Western must receive written comments on the Draft EIS/SA within 90 days following the date the Environmental Protection Agency publishes its Notice of Availability in the Federal Register. Oral comments will be taken at a public hearing that will be announced at least 15 days in advance through public notices, media releases, and/or mailings.

ADDRESSES: Written comments on the Draft EIS/SA may be sent to Ms. Liana Reilly, NEPA Document Manager, Western Area Power Administration, P.O. Box 281213, Lakewood, CO 80228-8213 or sent by e-mail to RiceSolar@wapa.gov.

Your entire comment, including your personal information such as name and address, may be publicly available at any time. While you can ask us in your comment to withhold your personal information from public review, we cannot guarantee that we will be able to do so.

FOR FURTHER INFORMATION CONTACT: For information on the proposed Project, the EIS and general information about Western's transmission system, contact Ms. Liana Reilly, Western NEPA Document Manager, at (800) 336-7288 or the address provided above. Parties wishing to be placed on the Project mailing list for future information and to receive copies of the document should also contact Ms. Reilly. For general information on the DOE NEPA process, please contact Ms. Carol M. Borgstrom, Director, Office of NEPA Policy and Compliance (GC-54), U.S. Department of Energy, 1000 Independence Avenue, SW., Washington, DC 20585, telephone (202) 586-4600 or (800) 472-2756.

For information on the DOE Loan Guarantee Program's involvement in the Project, contact Ms. Angela Colamaria, NEPA Document Manager, DOE Loan Guarantee Program, 1000 Independence Ave. SW., LP-10, Washington, DC 20585, telephone (202) 287-5387, or e-mail angela.colamaria@hq.doe.gov. For information on BLM's role with the Project or the possible CDCA Plan Amendment, contact Ms. Allison Shaffer, BLM Project Manager, Palm Springs South Coast Field Office, Bureau of Land Management, 1201 Bird Center Drive, Palm Springs, CA, 92262, telephone (760) 833-7100 or e-mail CAPSSolarRice@blm.gov.

For information on the California Energy Commission process, contact Mr. John Kessler, Project Manager, Siting, Transmission and Environmental Protection Division, California Energy Commission, 1516 Ninth Street, MS-15, Sacramento, CA 95814, telephone (916) 654-4679 or e-mail jkessler@energy.state.ca.us. Information on the California Energy Process may be also found online at http://www.energy.ca.gov/sitingcases/ricesolar/index.html.

SUPPLEMENTARY INFORMATION: Western and BLM filed a Notice of Intent (NOI) to Prepare an EIS/SA and possible Land Use Plan Amendment for the proposed Project which was published in the Federal Register on March 29, 2010 (75 FR 15427).¹ Western and the BLM held public scoping meetings in Big River, CA, on March 31, 2010, and in Palm Desert, CA, on April 1, 2009. The formal scoping period ended April 28, 2010. Comments received during the scoping period were considered in preparing the Draft EIS/SA.

¹ Western has authority to prepare and approve EISs for integrating transmission facilities with its system pursuant to an October 4, 1999 Delegation Order from the DOE Assistant Secretary for Environment, Health and Safety.

Proposed Project: The proposed Project is a 150 megawatt (MW) solar electric power plant that would use concentrating solar “power tower” technology to capture the sun's heat to make steam, which would power traditional steam turbine generators. The solar generation facility, located on privately owned land, would contain the power block, a central receiver or tower, a solar field consisting of mirrors or heliostats to reflect the sun's energy to the central tower, a thermal energy storage system, technical and non-technical buildings, a storm water system, water supply and treatment system, a wastewater system, evaporation ponds, construction parking and laydown areas, and other supporting facilities. The proposed Project would use an air cooled condenser (i.e., dry cooling technology) for power plant cooling. Water for the Project (up to 180 acre-feet per year) would be obtained from two new on-site wells. Rice Solar Energy, LLC (RSE) has applied to Western to interconnect the proposed Project to Western's transmission system. A new 10-mile long 161-kV/230-kV generator tie-line would extend from the southern boundary of the solar facility boundary to a new substation to be constructed adjacent to Western's existing Parker-Blythe transmission line. The substation would be owned and operated by Western and would be approximately three acres in size.

RSE has submitted a right-of-way (ROW) application to the BLM for the Project components (the generator tie-line, substation, access road, and fiber optic line) to be constructed on a total of approximately 12 acres of land managed by the BLM. The Project site is in an undeveloped area of the Sonoran Desert in eastern Riverside County, California, near State Route 62, approximately 40 miles northwest of Blythe, California, and 15 miles west of Vidal Junction, California, on lands managed by the BLM.

RSE also submitted an application to the DOE LGP seeking a guarantee for the proposed Project. The LGP invited RSE to enter into the due diligence process on June 25, 2010, and then initiated NEPA review. The LGP is participating in the preparation of the Draft EIS/SA to ensure that analyses needed to satisfy its NEPA obligations for its loan guarantee decision are included.

Agency Purpose and Need: Western's purpose and need for the RSEP is to respond to RSE's requested interconnection in accordance with Western's Open Access Transmission Tariff. LGP's purpose and need for the RSEP is to determine whether RSE's project is eligible for a guarantee under EPAct 2005. DOE is using the NEPA process to assist in determining whether to issue a loan guarantee to RSE to support the proposed project. The BLM's purpose and need for the RSEP is to respond to RSE's application under Title V of FLPMA (43 U.S.C. 1761) for a ROW grant to construct the 161-kV/230-kV transmission line, substation, access road, and fiber optic line on public lands in compliance with FLPMA, BLM ROW regulations, and other applicable Federal laws. The BLM will respond to RSE's ROW application by approving, approving with modifications, or denying RSE'S application.

Proposed Agency Actions: Western's proposed action is to interconnect the proposed Project to Western's existing Parker-Blythe transmission line and to replace an overhead ground wire on its existing Parker-Blythe transmission with a fiber optic ground wire to allow communication from the new plant to the existing system. The LGP's proposed action is to issue a loan guarantee to RSE. The BLM's proposed action is to authorize a ROW in favor of a 161-kV/230-kV transmission line, access road, and fiber optic line. The BLM would also amend the CDCA Plan to include this project. The CDCA Plan (1980, as amended), states that new electric transmission facilities on lands designated as Multiple-Use Class M may be allowed only within designated corridors. If the BLM decides to grant a ROW for this Project, the CDCA Plan would be amended to designate a new utility corridor in support of the 161-kV/230-kV electrical transmission towers and cables.

Western, LGP, BLM, and the CEC have agreed to conduct a joint environmental review of the proposed Project in a single combined NEPA/CEQA process and document. For purposes of NEPA compliance, Western, on behalf of DOE, is serving as the lead Federal agency with the BLM acting as a cooperating agency. The Draft EIS/SA analyzes site-specific impacts on air quality, biological resources, recreation, cultural resources, water resources, geological resources and hazards, hazardous materials handling, land use, noise, paleontological resources, wilderness characteristics, public health, socioeconomics, soils, traffic and transportation, visual resources, waste management, worker safety and fire protection, as well as facility design engineering, efficiency, reliability, transmission system engineering, and transmission line safety and nuisance.

As required under NEPA, the draft EIS/SA analyzes a no action alternative that would not require a CDCA Plan amendment. The draft EIS/SA also analyzes two no-project alternatives that reject the proposed Project but amend the CDCA Plan to (1) designate the project area as available to future solar energy power generation projects or (2) designate the project area as unavailable to future solar energy power generation projects.

Dated: October 8, 2010.
Timothy J. Meeks,
Administrator.

[FR Doc. 2010-27154 Filed 10-26-10; 8:45 am]

BILLING CODE 6450-01-P